DEPARTMENT OF AGRICULTURE

Agricultural Marketing Service

[Docket Number FV-05-309]

United States Standards for Grades of Dewberries and Blackberries

AGENCY: Agricultural Marketing Service, USDA.

ACTION: Notice.

SUMMARY: The Agricultural Marketing Service (AMS) published a notice soliciting comments on a proposal to revise the color requirements in the voluntary United States Standards for Grades of Dewberries and Blackberries. The Agency has decided not to proceed further with this action due to the comments and concerns received from the industry.

EFFECTIVE DATE: October 6, 2005.

FOR FURTHER INFORMATION CONTACT: Cheri L. Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The United States Standards for Grades of Dewberries and Blackberries are available either through the address cited above or by accessing the Fresh Products Branch Web site at: http://www.ams.usda.gov/standards/stanfrfv.htm.

Background

At a 2003 meeting with the Fruit and Vegetable Industry Advisory Committee, AMS was asked to review all the fresh fruit and vegetable grade standards for usefulness in serving the industry. AMS had identified the United States Standards for Grades of Dewberries and Blackberries for a possible revision. The United States Standards for Grades of Dewberries and Blackberries were last amended on February 13, 1928.

On June 21, 2005, a notice seeking comments on the possible revision of the standards to allow for a lesser amount of color or varying shades of color was published in the Federal Register (70 FR 21392) with the comment period ending August 22, 2005.

Two comments were received from the industry during the official period for comment. Both comments received did not support the revision of the standards based on color being a factor of the ripening process, and the effect that it has on the marketing of dewberries and blackberries.

After reviewing and considering the comments received, the Agency has decided not to proceed further with this action.

Authority: 7 U.S.C. 1621-1627.

Dated: October 3, 2005.
Lloyd C. Day,
Administrator, Agricultural Marketing Service.

[FR Doc. 05-20095 Filed 10-5-05; 8:45 am]

BILLING CODE 3410-02-P